SECURITIES AND EXCHANGE COMMISSION

Sunshine Act Meeting

Notice is hereby given, pursuant to the provisions of the Government in the Sunshine Act, Public Law 94-409, that the Securities and Exchange Commission will hold an Open Meeting on July 11, 2012 at 10 a.m., in the Auditorium, Room L-002.

The subject matter of the Open Meeting will be:

The Commission will consider whether to adopt Rule 613 under Section 11A of the Securities Exchange Act, to require national securities exchanges and national securities associations to submit a national market system (“NMS”) plan to develop, implement, and maintain a consolidated order tracking system, or consolidated audit trail, with respect to the trading of NMS securities, that would capture customer and order event information for orders in NMS securities, across all markets, from the time of order inception through routing, cancellation, modification, or execution.

At times, changes in Commission priorities require alterations in the scheduling of meeting items.

Commissioner Gallagher, as duty officer, determined that no earlier notice thereof was possible.

For further information and to ascertain what, if any, matters have been added, deleted, or postponed, please contact: The Office of the Secretary at (202) 551-5400.

Dated: July 6, 2012.
Elizabeth M. Murphy,
Secretary.

[FR Doc. 2012-16991 Filed 7-9-12; 11:15 am]

BILLING CODE 8011-01-P